DEPARTMENT OF STATE

[Public Notice 5629]

Announcement of Meetings of the International Telecommunication Advisory Committee

Summary: This notice announces meetings of the International Telecommunication Advisory Committee (ITAC) to prepare advice on U.S. positions for the ITU Telecommunication Standardization Advisory Group (TSAG), and Telecommunication Development Advisory Group.

In addition to the previously announced meeting to prepare advice on U.S. positions to be taken at the March meeting of the Telecommunication Sector Advisory Group (TSAG) on January 18, 2007, the ITAC will also meet on February 1 and February 13, 2007, all meetings from 9:30-noon. Locations of these meetings may be obtained by calling the secretariat below.

The ITAC will meet to prepare advice on U.S. positions to be taken at the Telecommunication Development Advisor Group (TDAG) on January 25 and February 1, 2007 in Room 2533A of the Harry S Truman building (Main State) from 2-4 p.m. People desiring to attend these meetings should send pre-clearance information to minardje@state.gov. Access to the Department of State is through the doors at 2201 C Street, have picture ID and proof of citizenship available. We strongly suggest arriving at least 30 minutes before the start of the meeting.

These meetings are open to the public. Further information may be obtained from the secretariat minardje@state.gov, telephone 202-647-3234.

Dated: December 28, 2006.
Douglas R. Spalt,
Electronics Engineer, International Communications & Information Policy, Multilateral Affairs, Department of State.

[FR Doc. E6-22621 Filed 1-4-07; 8:45 am]

BILLING CODE 4710-07-P